DEPARTMENT OF COMMERCE

International Trade Administration

[A-570-891]

Hand Trucks and Certain Parts Thereof from the People's Republic of China; Preliminary Results, Partial Intent to Rescind and Partial Rescission of the 2005-06 Administrative Review

AGENCY: Import Administration, International Trade Administration, Department of Commerce.

SUMMARY: In response to requests from interested parties, the Department of Commerce (“the Department”) is conducting an administrative review of the antidumping duty order on hand trucks and certain parts thereof (“hand trucks”) from the People's Republic of China (“PRC”) covering the period December 1, 2005, through November 30, 2006. We have preliminarily determined that sales have been made below normal value (“NV”) by one exporter participating in the review. We have also preliminarily rescinded the review for five exporters that did not have any exports during the period of review (“POR”) or whose request for review was timely withdrawn. We have also preliminarily determined that two companies have not demonstrated that they are entitled to separate rates and have assigned them the rate for the PRC-wide entity. If these preliminary results are adopted in the final results of these reviews, we will instruct U.S. Customs and Border Protection (“CBP”) to assess antidumping duties on all appropriate entries.

Interested parties are invited to comment on these preliminary results. We will issue the final results no later than 120 days from the date of publication of this notice.

EFFECTIVE DATE: (January 14, 2008.

FOR FURTHER INFORMATION CONTACT: Paul Stolz, AD/CVD Operations, Office 8, Import Administration, International Trade Administration, U.S. Department of Commerce, 14th Street and Constitution Avenue, NW, Washington, DC 20230; telephone: (202) 482-4474.

Background

On December 1, 2006, the Department published a notice of opportunity to request an administrative review of the antidumping duty order on hand trucks from the PRC. See Antidumping or Countervailing Duty Order, Finding, or Suspended Investigation; Opportunity To Request Administrative Review, 71 FR 69543 (December 1, 2006). In accordance with 19 CFR 351.213(b)(1), on December 29, 2006, Petitioners, Gleason Industrial Products, Inc. and Precision Products, Inc., requested that the Department conduct an administrative review for the following exporters of the subject merchandise: Qingdao Huatian Hand Truck Co., Ltd. (“Huatian”); Qingdao Future Tool, Inc. (“Future Tool”); Qingdao Taifa Group Co. Ltd. (“Taifa”); True Potential Co., Ltd. (“True Potential”); Shandong Machinery I&E Group Corp. (“Shandong Machinery”); Since Hardware (Guangzhou) Co., Ltd. (“Since Hardware”); Formost Plastics & Metalworks (Jiazing) Co., Ltd. (“Formost”); and Forecarry Corp (“Forecarry”). Also, on December 29, 2006, the Department received a request to conduct an administrative review from Taifa, an exporter of the subject merchandise.

On January 3, 2007, the Department received a request to conduct an administrative review from Since Hardware, an exporter of subject merchandise from the PRC. On February 2, 2007, the Department published in the Federal Register a notice of the initiation of the antidumping duty administrative review of hand trucks from the PRC for the period December 1, 2005, through November 30, 2006, with respect to eight companies. See Initiation of Antidumping and Countervailing Duty Administrative Reviews and Request for Revocation in Part, 72 FR 5005 (February 2, 2007).

On March 1, 2007, the Department issued quantity and value (“Q&V”) questionnaires along with separate rate applications and certifications to Forecarry, Formost, Future Tool, Huatian, Shandong Machinery, Since Hardware, True Potential, and Taifa requesting each party's quantity (i.e., pieces) and U.S. dollar sales value of all exports of hand trucks and parts thereof to the United States during the POR. See Quantity and Value Questionnaire (“Q&V Questionnaire”) dated March 1, 2007. In our Q&V questionnaire, we notified all interested parties that we were considering limiting the number of respondents selected for review in accordance with section 777A(c)(2) of the Tariff Act of 1930, as amended (“Act”), due to the number of firms requested for this administrative review and the resulting administrative burden to review each company for which a request had been made. On March 15, 2007, we received responses to the Q&V questionnaire from Huatian, Since Hardware (stating it had no shipments during the POR), Taifa and True Potential. On May 1 and 25, 2007, we issued letters to Formost, Forecarry, Future Tool, and Shandong Machinery providing each a second opportunity to respond to the Department's request for Q&V information. See Second Quantity and Value Questionnaire dated May 1, 2007 (“Second Q&V Questionnaire”). On June 4, 2007, Formost and Forecarry responded to the Department's request for Q&V information stating that they had no exports to the United States during the POR. Future Tool and Shandong Machinery did not respond to the Department's letters. See the “Facts Available” section of this notice, below, for further discussion.

On March 15, 2007, Since Hardware withdrew its request for an administrative review within the time limits specified under 19 CFR 351.213(d)(1). See the “Partial Rescission of Administrative Review” section of this notice, below, for further discussion. On May 3, 2007, Petitioners withdrew their request for an administrative review within the time limits specified under 19 CFR 351.213(d)(1) with respect to Huatian, Taifa, and True Potential.

On June 21, 2007, the Department determined that it was not practicable to examine individually all of the companies covered by the 2005-2006 administrative review, and thus it limited its examination to the largest producers/exporters that could reasonably be reviewed, pursuant to section 777A(c)(2)(B) of the Act. Therefore, on this date the Department selected Taifa as the sole respondent required to submit a full questionnaire response in the administrative review (i.e., mandatory respondent). See the memorandum titled “Antidumping Duty Administrative Review of Hand Trucks and Certain Parts Thereof from the People's Republic of China: Selection of Respondents” dated June 21, 2007.

On June 22, 2007, we issued the antidumping duty questionnaire to Taifa. We received separate-rate certifications from Taifa and True Potential. On July 13, 2007, we received Taifa's responses to section A of the Department's original questionnaire. On August 14, 2007, we received Taifa's response to sections C and D of the Department's original questionnaire. On September 4, 2007, we issued a supplemental questionnaire regarding section A to Taifa. On September 11, 2007, we received Taifa's response to our supplemental section A. On September 14, 2007, we issued a supplemental questionnaire regarding sections C and D to Taifa. On October 11, 2007, we received Taifa's response to sections C and D of the Department's supplemental questionnaire. On November 26, 2007, we issued a second supplemental questionnaire regarding sections A, C, and D to Taifa. On November 28, 2007, we issued a third supplemental to Taifia regarding sections C and D. On December 7, 2007, we received a response from Taifa to the November 26, 2007, supplemental questionnaire. On December 10, 2007, we received a response from Taifa to the November 28, 2007, supplemental questionnaire. On December 14, 2007, we issued a fourth supplemental to Taifia regarding section C.

On October 4, 2007, the Department invited interested parties to comment on surrogate country selection and to provide publicly available information for valuing the factors of production (“FOPs”). On October 31, 2007, Petitioners provided comments on surrogate country selection.

On August 31, 2007, the Department issued a Federal Register notice extending the time limits for the preliminary results of administrative review until no later than December 3, 2007. See Hand Trucks and Certain Parts Thereof From the People's Republic of China; Extension of Time Limits for Preliminary Results in Antidumping Duty Administrative Review, 72 FR 51411 (September 7, 2007). Additionally, on November 23, 2007, the Department issued a Federal Register notice fully extending the time limits for the preliminary results of administrative review until no later than December 31, 2007. See Hand Trucks and Certain Parts Thereof From the People's Republic of China; Full Extension of Time Limits for Preliminary Results in Antidumping Duty Administrative Review, 72 FR 67701 (November 30, 2007).

Period of Review

The POR covers December 1, 2005, through November 30, 2006.

Scope of Order

The product covered by this order consists of hand trucks manufactured from any material, whether assembled or unassembled, complete or incomplete, suitable for any use, and certain parts thereof, namely the vertical frame, the handling area and the projecting edges or toe plate, and any combination thereof.

A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition.

Examples of names commonly used to reference hand trucks are hand truck, convertible hand truck, appliance hand truck, cylinder hand truck, bag truck, dolly, or hand trolley. They are typically imported under heading 8716.80.50.10 of the Harmonized Tariff Schedule of the United States (“HTSUS”), although they may also be imported under heading 8716.80.50.90. Specific parts of a hand truck, namely the vertical frame, the handling area and the projecting edges or toe plate, or any combination thereof, are typically imported under heading 8716.90.50.60 of the HTSUS. Although the HTSUS subheadings are provided for convenience and customs purposes, the Department's written description of the scope is dispositive.

Excluded from the scope are small two-wheel or four-wheel utility carts specifically designed for carrying loads like personal bags or luggage in which the frame is made from telescoping tubular material measuring less than 5/8 inch in diameter; hand trucks that use motorized operations either to move the hand truck from one location to the next or to assist in the lifting of items placed on the hand truck; vertical carriers designed specifically to transport golf bags; and wheels and tires used in the manufacture of hand trucks.

Partial Rescission of Administrative Review

Pursuant to 19 CFR 351.213(d)(1), the Secretary must rescind an administrative review if a party requesting a review withdraws the request within 90 days of the date of publication of the notice of initiation. As noted above, on March 15, 2007, Since Hardware timely withdrew its request for an administrative review. However, because Petitioners did not withdraw their review request with respect to Since Hardware, we are not rescinding the review for Since Hardware based on its withdrawal of its request for review. Also, on May 3, 2007, Petitioners withdrew their request for an administrative review with respect to Huatian, Taifa, and True Potential, in accordance with 19 CFR 351.213(d)(1). Because no other interested party requested a review of Huatian or True Potential, in accordance with 19 CFR 351.213(d)(1) and consistent with our practice, we are rescinding the administrative review of these companies for the POR.

Partial Intent to Rescind Administrative Review

On March 15, 2007, Since Hardware responded to the Department's Q&V questionnaire stating it had no POR shipments to the United States. On June 27, 2007, Petitioners submitted comments arguing that Since Hardware incorrectly stated that it exported no subject merchandise to the United States during the POR. Petitioners based their argument on the Department's new shipper verification report of Since Hardware from the 2004-2005 new shipper review. See Letter from Petitioners; Hand Trucks and Parts Thereof from the People's Republic of China: Selection of Respondents, dated June 27, 2007, at Exhibit 2, “Verification of Sales and Factors Responses of Since Hardware (Guangzhou) Co., Ltd. in the New Shipper Review of Hand Trucks and Certain Parts Thereof from the People's Republic of China” (“NSR Verification Report”) (October 5, 2006). Citing the NSR Verification Report, Petitioners contend that at verification in the 2004-2005 review, the Department compared a post-POR sale to Since Hardware's NSR sale. See NSR Verification Report at page 4. We examined the NSR Verification Report that refers to a production order but does not refer to an actual sale. Petitioners have not put forth any other evidence of a shipment by Since Hardware during the POR.

Further, record evidence indicates that Formost, Forecarry, and Since Hardware did not have any exports of subject merchandise during the POR. See March 15, 2007, Q&V response from Since Hardware and June 4, 2007, Q&V response from Formost and Forecarry. Additionally, we have reviewed the CBP entry data for the POR and found no evidence of exports from these three entities. See Memorandum to the File from Robert Bolling, Hand Trucks and Certain Parts Thereof from the People's Republic of China, No Shipment Inquiry, dated November 26, 2007, and Memorandum to the File from Robert Bolling, Hand Trucks and Certain Parts Thereof from the People's Republic of China, No Shipment Inquiry, dated December 13, 2007. We have received no evidence that Formost, Forecarry, or Since Hardware had any shipments to the United States of subject merchandise during the POR. Therefore, pursuant to 19 CFR 351.213(d)(3), the Department preliminarily rescinds this review as to Formost, Forecarry, and Since Hardware.

Non-Market Economy Country Status

In every case conducted by the Department involving the PRC, the PRC has been treated as a non-market economy (“NME”) country. Pursuant to section 771(18)(C)(i) of the Act, any determination that a foreign country is an NME country shall remain in effect until revoked by the administering authority. See, e.g., Fresh Garlic from the People's Republic of China: Preliminary Results of Antidumping Duty Administrative Review and Rescission in Part, 69 FR 70638 (Dec. 7, 2004). None of the parties to this proceeding has contested such treatment. Accordingly, we calculated NV in accordance with section 773(c) of the Act, which applies to NME countries.

Surrogate Country

When the Department is investigating imports from an NME country, section 773(c)(1) of the Act directs it to base NV on the NME producer's FOPs. The Act further instructs that valuation of the FOPs shall be based on the best available information in a surrogate market economy country or countries considered to be appropriate by the Department. See Section 773(c)(1) of the Act. When valuing the FOPs, the Department shall utilize, to the extent possible, the prices or costs of FOPs in one or more market economy countries that are: (1) at a level of economic development comparable to that of the NME country; and (2) significant producers of comparable merchandise. See Section 773(c)(1) of the Act. The sources of the surrogate values (“SV”) are discussed under the Normal Value section below and in the Memorandum to the File, Factors Valuations for the Preliminary Results of the Administrative Review, dated December 31, 2007 (“Factor Valuation Memorandum”), which is on file in the Central Records Unit (“CRU”), Room B-099 of the main Commerce Building.

The Department first determined that India, Indonesia, Sri Lanka, the Philippines, and Egypt are countries comparable to the PRC in terms of economic development. See Memorandum to the File, Administrative Review of Hand Trucks and Certain Parts Thereof from the People's Republic of China (PRC): Request for a List of Surrogate Countries, dated October 3, 2007, (“Policy Memo”) which is on file in the CRU.

On October 4, 2007, the Department issued a request for parties to submit comments on surrogate country selection. On October 31, 2007, Petitioners submitted comments regarding the selection of a surrogate country.¹ No other party to the proceeding submitted information or comments concerning the selection of a surrogate country. Petitioners assert that India is the appropriate surrogate country for the PRC because India meets the statutory criteria set forth in section 773(c)(4) of the Act for selection as a surrogate country for the PRC.

¹ Letter dated October 31, 2007, from Petitioners to Secretary of Commerce, re: Hand Trucks and Certain Parts Thereof from the People's Republic of China.

On December 10, 2007, the Department issued its surrogate country memorandum in which we addressed the parties' comments. See Memorandum to the File, Antidumping Duty Administrative Review of Hand Trucks and Certain Parts Thereof from the People's Republic of China: Selection of a Surrogate Country, dated December 10, 2007 (“Surrogate Country Memorandum”), which is on file in the CRU. After evaluating concerns and comments, the Department determined that India is the appropriate surrogate country to use in this review. The Department based its decision on the following facts: 1) India is at a level of economic development comparable to that of the PRC; 2) India is a significant producer of comparable merchandise; and 3) India provides the best opportunity to use quality, publicly available data to value the FOPs. See Surrogate Country Memorandum.

Therefore, we have selected India as the surrogate country and, accordingly, have calculated NV using Indian prices to value the respondents' FOPs, when available and appropriate. We have obtained and relied upon publicly available information wherever possible. See Factor Valuation Memorandum. In accordance with 19 CFR 351.301(c)(3)(ii), interested parties may submit publicly available information to value FOPs until 20 days after the date of publication of these preliminary results.

Facts Available

A. Application of Facts Available

Section 776(a)(1) and (2) of the Act provides that the Department shall apply “facts otherwise available” if, inter alia, necessary information is not on the record or an interested party or any other person (A) withholds information that has been requested, (B) fails to provide information within the deadlines established, or in the form and manner requested by the Department, subject to subsections (c)(1) and (e) of section 782, (C) significantly impedes a proceeding, or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate. Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information supplied if it can do so without undue difficulties.

Section 776(b) of the Act further provides that the Department may use an adverse inference in applying the facts otherwise available when a party has failed to cooperate by not acting to the best of its ability to comply with a request for information. Such an adverse inference may include reliance on information derived from the petition, the final determination, a previous administrative review, or other information placed on the record.

Section 776(c) of the Act provides that, when the Department relies on secondary information rather than on information obtained in the course of an investigation or review, it shall, to the extent practicable, corroborate that information from independent sources that are reasonably at its disposal. Secondary information is defined as “[i]nformation derived from the petition that gave rise to the investigation or review, the final determination concerning the subject merchandise, or any previous review under section 751 concerning the subject merchandise.” See Statement of Administrative Action, H.R. Doc. 103-316 at 870 (1994) (“SAA”). Corroborate means that the Department will satisfy itself that the secondary information to be used has probative value. Id. To corroborate secondary information, the Department will, to the extent practicable, examine the reliability and relevance of the information to be used.

Future Tool & Shandong Machinery

On March 1, 2007, we issued Q&V Questionnaires along with separate-rate applications and certifications to Future Tool and Shandong Machinery, and requested a response by March 15, 2007. See Q&V Questionnaire. Neither Future Tool nor Shandong Machinery provided a response to our initial Q&V Questionnaire. On May 1, 2007, we issued a second Q&V Questionnaire to Future Tool and Shandong Machinery. See Second Q&V Questionnaire. Once again, neither Future Tool nor Shandong Machinery provided a response to our second Q&V Questionnaire. Moreover, Future Tool and Shandong Machinery did not file a separate-rate application/certification and thus failed to establish their eligibility for a separate rate. Therefore, both Future Tool and Shandong Machinery will be part of the PRC-wide entity, subject to the PRC-wide rate. This rate will be based on facts available, as discussed below.

The PRC-Wide Entity

The Department issued a letter to all respondents identified in the Initiation Notice informing them of the requirements to respond to both the Department's Q&V questionnaire and either the separate-rate application or certification, as appropriate. Both Future Tool and Shandong Machinery failed to respond to the Q&V Questionnaire and the separate-rate application/certification. Therefore, the Department determines preliminarily that there were exports of merchandise under review from PRC producers/exporters that did not respond to the Department's Q&V questionnaire and consequently did not demonstrate their eligibility for separate-rate status. As a result, the Department is treating these PRC producers/exporters as part of the countrywide entity.

Additionally, because we have determined that the companies named above are part of the PRC-wide entity, the PRC-wide entity is now under review. Pursuant to section 776(a) of the Act, we further find that because the PRC-wide entity (including the companies discussed above) failed to respond to the Department's questionnaires, withheld or failed to provide information in a timely manner or in the form or manner requested by the Department, submitted information that cannot be verified, or otherwise impeded the proceeding, it is appropriate to apply a dumping margin for the PRC-wide entity using the facts otherwise available on the record.

B. Adverse Facts Available (“AFA”)

According to section 776(b) of the Act, if the Department finds that an interested party fails to cooperate by not acting to the best of its ability to comply with requests for information, the Department may use an inference that is adverse to the interests of that party in selecting from the facts otherwise available. See, e.g., Notice of Final Results of Antidumping Duty Administrative Review: Stainless Steel Bar from India, 70 FR 54023, 54025-26 (September 13, 2005); see also Notice of Final Determination of Sales at Less Than Fair Value and Final Negative Critical Circumstances: Carbon and Certain Alloy Steel Wire Rod from Brazil, 67 FR 55792, 55794-96 (August 30, 2002). Adverse inferences are appropriate “to ensure that the party does not obtain a more favorable result by failing to cooperate than if it had cooperated fully.” See SAA at 870. Furthermore, “affirmative evidence of bad faith on the part of a respondent is not required before the Department may make an adverse inference.” See Antidumping Duties; Countervailing Duties; Final Rule, 62 FR 27296, 27340 (May 19, 1997); see also Nippon Steel Corp. v. United States, 337 F.3d 1373, 1382 (Fed. Cir. 2003) (“Nippon”).

Both Future Tool and Shandong Machinery were notified in the Department's questionnaires that failure to submit the requested information by the date specified might result in the use of facts available. Generally, it is reasonable to assume that the PRC-wide entity (including Shandong Machinery and Future Tool) possessed the records necessary for this administrative review and that, by not supplying the information the Department requested, these companies failed to cooperate to the best of their ability. In addition, none of the companies in this review argued that it was incapable of providing the information the Department requested, or requested that the Department modify its reporting requirements in accordance with 782(c)(1) of the Act. Accordingly, because the PRC-wide entity (including Future Tool and Shandong Machinery) failed to respond to the Department's requests for information, we preliminarily find that the PRC-wide entity has not acted to the best of its ability in this proceeding, within the meaning of section 776(b) of the Act. Therefore, an adverse inference is warranted in selecting from the facts otherwise available. See Nippon, 337 F.3d at 1382-83.

C. Selection of An AFA Rate

In deciding which facts to use as AFA, section 776(b) of the Act and 19 CFR 351.308(c)(1) authorize the Department to rely on information derived from: 1) the petition; 2) a final determination in the investigation; 3) any previous review or determination; or 4) any information placed on the record. In reviews, the Department normally selects as AFA the highest rate determined for any respondent in any segment of the proceeding. See, e.g., Freshwater Crawfish Tail Meat from the People's Republic of China: Notice of Final Results of Antidumping Duty Administrative Review, 68 FR 19504, 19508 (April 21, 2003). The Court of International Trade (“CIT”) and the Court of Appeals for the Federal Circuit (“Federal Circuit”) have consistently upheld the Department's practice. See Rhone Poulenc, Inc. v. United States, 899 F.2d 1185, 1190 (Fed. Cir. 1990) (“Rhone Poulenc”); NSK Ltd. v. United States, 346 F. Supp. 2d 1312, 1335 (CIT 2004) (upholding a 73.55 percent total AFA rate, the highest available dumping margin from a different respondent in a less-than-fair-value (“LTFV”) investigation); Kompass Food Trading Int'l v. United States, 24 CIT 678, 684 (2000) (upholding a 51.16 percent total AFA rate, the highest available dumping margin from a different, fully cooperative respondent); and Shanghai Taoen International Trading Co., Ltd. v. United States, 360 F. Supp. 2d 1339, 1348 (CIT 2005) (upholding a 223.01 percent total AFA rate, the highest available dumping margin from a different respondent in a previous administrative review). The Department's practice, when selecting an AFA rate from among the possible sources of information, has been to ensure that the margin is sufficiently adverse “as to effectuate the statutory purposes of the adverse facts available rule to induce respondents to provide the Department with complete and accurate information in a timely manner.” See, e.g., Notice of Final Determination of Sales at Less Than Fair Value: Static Random Access Memory Semiconductors from Taiwan, 63 FR 8909, 8932 (February 23, 1998). The Department's practice also ensures “that the party does not obtain a more favorable result by failing to cooperate than if it had cooperated fully.” See SAA at 870; see also Final Determination of Sales at Less than Fair Value: Certain Frozen and Canned Warmwater Shrimp from Brazil, 69 FR 76910, 76912 (December 23, 2004); and D&L Supply Co. v. United States, 113 F. 3d 1220, 1223 (Fed. Cir. 1997). In choosing the appropriate balance between providing respondents with an incentive to respond accurately and imposing a rate that is reasonably related to the respondent's prior commercial activity, selecting the highest prior margin “reflects a common sense inference that the highest prior margin is the most probative evidence of current margins, because, if it were not so, the importer, knowing of the rule, would have produced current information showing the margin to be less.” See Rhone Poulenc, 899 F.2d at 1190. Consistent with the statute, court precedent, and its normal practice, the Department has assigned the rate of 383.60 percent to the PRC-wide entity (including Future Tool and Shandong Machinery) as AFA. This rate was assigned in the investigation of this proceeding and is the highest rate determined for any party in any segment of this proceeding. See Amended Final Determination of Sales at Less Than Fair Value: Hand Trucks and Certain Parts Thereof From the People's Republic of China, 69 FR 65410 (November 12, 2004) (Hand Trucks Amended Final Determination). As discussed below, this rate has been corroborated.

D. Corroboration of Secondary Information

Section 776(c) of the Act provides that when the Department relies on the facts otherwise available and on “secondary information,” the Department shall, to the extent practicable, corroborate that information from independent sources reasonably at the Department's disposal. The SAA states that “corroborate” means to determine that the information used has probative value. See SAA at 870. The Department has determined that to have probative value, information must be reliable and relevant. See SAA at 870; see also Tapered Roller Bearings and Parts Thereof, Finished and Unfinished, From Japan, and Tapered Roller Bearings, Four Inches or Less in Outside Diameter, and Components Thereof, From Japan; Preliminary Results of Antidumping Duty Administrative Reviews and Partial Termination of Administrative Reviews, 61 FR 57391, 57392 (November 6, 1996). The SAA also states that independent sources used to corroborate such evidence may include, for example, published price lists, official import statistics and customs data, and information obtained from interested parties during the particular investigation. See SAA at 870. See also Preliminary Determination of Sales at Less Than Fair Value: High and Ultra-High Voltage Ceramic Station Post Insulators from Japan, 68 FR 35627, 35629 (June 16, 2003), unchanged in Notice of Final Determination of Sales at Less Than Fair Value: High and Ultra-High Voltage Ceramic Station Post Insulators from Japan, 68 FR 62560, 62561 (Nov. 5, 2003); and Final Determination of Sales at Less Than Fair Value: Live Swine from Canada, 70 FR 12181, 12183-84 (March 11, 2005).

We are applying as AFA the highest rate from any segment of this administrative proceeding, which is the rate currently applicable to all exporters subject to the PRC-wide rate. The information upon which the AFA rate is based in the current review (i.e., the PRC-wide rate of 383.60 percent) was the highest rate calculated based on information contained in the petition in the LTFV investigation. See Hand Trucks Amended Final Determination, 69 FR at 65411. This AFA rate is the same rate that the Department assigned to certain hand truck companies in the original LTFV final determination. In the investigation, the Department determined the reliability of the margin contained in the petition by comparing the U.S. prices from the price quotes in the petition to prices of comparable products sold by Huatian, a mandatory respondent in the LTFV investigation, and found them to be comparable. The Department also compared the SVs used in the petition to the SVs selected for the final determination, and then adjusted and replaced certain values to make them more accurate. Finally, the Department replaced the SV ratios in the petition with those used in the final investigation. Therefore, in the investigation, we found this margin to be reliable. See Notice of Preliminary Determination of Sales at Less Than Fair Value and Postponement of Final Determination: Hand Trucks and Certain Parts Thereof From the People's Republic of China, 69 FR 29509 (May 24, 2004), and Notice of Final Determination of Sales at Less Than Fair Value: Hand Trucks and Certain Parts Thereof from the People's Republic of China, 69 FR 60980 (October 14, 2004), as amended by Hand Trucks Amended Final Determination, 69 FR at 65411. Further, the application of this margin was subject to comment from interested parties in that segment of the proceeding. The Department has received no information to date that warrants revisiting the issue of the reliability of the rate and no party has submitted comments challenging the reliability of this margin. Thus, the Department finds that the margin calculated in the LTFV investigation is reliable.

With respect to the relevance aspect of corroboration, the Department will consider information reasonably at its disposal to determine whether a margin continues to have relevance. Where circumstances indicate that the selected margin is not appropriate as AFA, the Department will disregard the margin and determine an appropriate margin. For example, in Fresh Cut Flowers from Mexico: Final Results of Antidumping Administrative Review, 61 FR 6812 (February 22, 1996), the Department disregarded the highest margin in that case as adverse best information available (the predecessor to facts available) because the margin was based on another company's uncharacteristic business expense resulting in an unusually high margin. Similarly, the Department does not apply a margin that has been discredited. See D & L Supply Co. v. United States, 113 F.3d 1220, 1222 (Fed. Cir. 1997) (the Department will not use a margin that has been judicially invalidated). None of these unusual circumstances are present here. Further, the selected margin is currently the PRC-wide rate. As there is no information on the record of this review that indicates that this rate is not relevant as AFA for Future Tool and Shandong Machinery and the PRC-wide entity, we determine that this rate is relevant.

Because the rate is both reliable and relevant, it has probative value. Accordingly, we determine that the highest rate determined in any segment of this administrative proceeding (i.e., 383.60 percent) is corroborated (i.e., it has probative value). We have assigned this AFA rate to exports of the subject merchandise by the PRC-wide entity, including Future Tool and Shandong Machinery.

Separate Rates

In proceedings involving NME countries, the Department begins with a rebuttable presumption that all companies within the country are subject to government control and, thus, should be assigned a single antidumping duty deposit rate. It is the Department's policy to assign all exporters of merchandise subject to review in an NME country this single rate unless an exporter can demonstrate that it is sufficiently independent so as to be entitled to a separate rate. Taifa has provided company-specific information and has certified that it meets the standards for the assignment of a separate rate.

We have considered whether Taifa is eligible for a separate rate. The Department's separate-rate test to determine whether the exporters are independent from government control does not consider, in general, macroeconomic/border-type controls, e.g., export licenses, quotas, and minimum export prices, particularly if these controls are imposed to prevent dumping. The test focuses, rather, on controls over the investment, pricing, and output decision-making process at the individual firm level. See, e.g., Certain Cut-to-Length Carbon Steel Plate from Ukraine: Final Determination of Sales at Less than Fair Value, 62 FR 61754, 61758 (November 19, 1997); and Tapered Roller Bearings and Parts Thereof, Finished and Unfinished, from the People's Republic of China: Final Results of Antidumping Duty Administrative Review, 62 FR 61276, 61279 (November 17, 1997).

To establish whether a firm is sufficiently independent from government control of its export activities to be entitled to a separate rate, the Department analyzes each entity exporting the subject merchandise under a test arising from the Final Determination of Sales at Less Than Fair Value: Sparklers from the People's Republic of China, 56 FR 20588 (May 6, 1991) (“Sparklers”), as further developed in Final Determination of Sales at Less Than Fair Value: Silicon Carbide from the People's Republic of China, 59 FR 22585 (May 2,1994) (“Silicon Carbide”). In accordance with the separate-rates criteria, the Department assigns separate rates in NME cases only if respondents can demonstrate the absence of both de jure and de facto government control over export activities.

1. Absence of De Jure Control

The Department considers the following de jure criteria in determining whether an individual company may be granted a separate rate: (1) an absence of restrictive stipulations associated with an individual exporter's business and export licenses; (2) any legislative enactments decentralizing control of companies; and (3) other formal measures by the government decentralizing control of companies. See Sparklers, 56 FR at 20589.

On June 22, 2007, we received Taifa's separate-rate certification. Our analysis shows that, for Taifa, the evidence on the record supports a preliminary finding of de jure absence of government control based on record statements and supporting documentation showing the following: 1) an absence of restrictive stipulations associated with the individual exporter's business and export licenses; 2) the applicable legislative enactments decentralizing control of the companies; and 3) any other formal measures by the government decentralizing control of companies. See Tafia's Separate Rate Certification Submission dated March 15, 2007.

2. Absence of De Facto Control

Through previous cases, the Department has learned that certain enactments of the PRC central government have not been implemented uniformly among different sectors and/or jurisdictions in the PRC. See Final Determination of Sales at Less Than Fair Value: Certain Preserved Mushrooms from the People's Republic of China, 63 FR 72255 (December 31, 1998). Therefore, the Department has determined that an analysis of de facto control is critical in determining whether respondents are, in fact, subject to a degree of government control which would preclude the Department from assigning separate rates. The Department considers four factors in evaluating whether each respondent is subject to de facto government control of its export functions: (1) whether the exporter sets its own export prices independent of the government and without the approval of a government authority; (2) whether the respondent has the authority to negotiate and sign contracts, and other agreements; (3) whether the respondent has autonomy from the government in making decisions regarding the selection of its management; and (4) whether the respondent retains the proceeds of its export sales and makes independent decisions regarding disposition of profits or financing of losses. See Silicon Carbide, 59 FR at 22587; Sparklers, 56 FR at 20589.

We determine that, for Taifa, the evidence on the record supports a preliminary finding of de facto absence of government control based on record statements and supporting documentation showing the following: 1) it sets its own export prices independent of the government and without the approval of a government authority; 2) it retains the proceeds from its sales and makes independent decisions regarding disposition of profits or financing of losses; 3) it has the authority to negotiate and sign contracts and other agreements; and 4) it has autonomy from the government regarding the selection of management. See Tafia's Separate Rate Certification Submission, dated March 15, 2007.

On December 7, 2007, Petitioners put on the record certain evidence that Petitioners claimed demonstrated that the PRC government owns a majority of shares in Taifa and that Taifa is therefore subject to government control and ineligible for a separate rate. See Handtrucks and Parts Thereof from the People's Republic of China: Comments Regarding Taifa's Questionnaire Responses. In our separate-rate analysis, however, government ownership by itself is not dispositive in determining government control. See Silicon Carbide, 59 FR at 22586. As described above, we analyze de jure and de facto evidence to determine government control. In their December 7, 2007, submission, Petitioners have provided no other evidence regarding the de jure and de facto factors in our separate-rates test. Therefore, because evidence placed on the record of this administrative review by Taifa demonstrates an absence of government control, both in law and in fact, with respect to Taifa's exports of the subject merchandise, in accordance with the criteria identified in Sparklers and Silicon Carbide, for the purposes of these preliminary results, we have granted a separate rate to Taifa.

Normal Value Comparisons

To determine whether sales of the subject merchandise by Taifa to the United States were made at prices below NV, we compared each company's export prices (EPs) to NV, as described in the “Export Price” and “Normal Value” sections of this notice, below.

Export Price

For Taifa, we used EP methodology in accordance with section 772(a) of the Act for sales in which the subject merchandise was first sold prior to importation by the exporter outside the United States directly to an unaffiliated purchaser in the United States and for sales in which constructed export price was not otherwise indicated.

For Taifa, we calculated EP based on delivered prices to unaffiliated purchaser(s) in the United States. We made deductions from the U.S. sales price for movement expenses in accordance with section 772(c)(2)(A) of the Act. These included foreign inland freight, foreign brokerage and handling expenses, marine insurance. For a detailed description of all adjustments, see Memorandum to The File Through Robert Bolling, Program Manager, China/NME Group, from Paul Stolz, Case Analyst, Analysis for the Preliminary Results of Hand Trucks and Certain Parts Thereof from the People's Republic of China: Qingdao Taifa Group Co. Ltd. (“Analysis Memo Taifa”), dated concurrently with this notice.

Normal Value

Section 773(c)(1) of the Act provides that the Department shall determine NV using an FOPs methodology if: (1) the merchandise is exported from an NME country; and (2) the information does not permit the calculation of NV using home market prices, third country prices, or constructed value under section 773(a) of the Act. When determining NV in an NME context, the Department will base NV on FOPs because the presence of government controls on various aspects of these economies renders price comparisons and the calculation of production costs invalid under our normal methodologies. Under section 773(c)(3) of the Act, FOPs include but are not limited to: (1) hours of labor required; (2) quantities of raw materials employed; (3) amounts of energy and other utilities consumed; and (4) representative capital costs. We used FOPs reported by respondents for materials, energy, labor and packing.

In accordance with 19 CFR 351.408(c)(1), the Department will normally use publicly available information to find an appropriate SV to value FOPs, but when a producer sources an input from a market economy and pays for it in market-economy currency, the Department will normally value the factor using the actual price paid for the input. See 19 CFR 351.408(c)(1); see also Lasko Metal Products, Inc. v. United States, 43 F.3d 1442, 1446 (Fed. Cir. 1994). However, when the Department has reason to believe or suspect that such prices may be distorted by subsidies, the Department will disregard the market economy purchase prices and use SVs to determine the NV. See Brake Rotors From the People's Republic of China: Final Results of Antidumping Duty Administrative and New Shipper Reviews and Partial Rescission of the 2005-2006 Administrative Review, 72 FR 42386 (August 2, 2007) (“Brake Rotors”), and accompanying Issues and Decision Memorandum at Comment 1.

It is the Department's consistent practice that, where the facts developed in the United States or third country countervailing duty findings include the existence of subsidies that appear to be used generally (in particular, broadly available, non-industry-specific export subsidies), it is reasonable for the Department to find that it has particular and objective evidence to support a reason to believe or suspect that prices of the inputs from the country granting the subsidies may be subsidized. See Brake Rotors and China National Machinery Imp. & Exp. Corp. v. United States, 293 F. Supp. 2d 1334, 1338-39 (CIT 2003).

In avoiding the use of prices that may be subsidized, the Department does not conduct a formal investigation to ensure that such prices are not subsidized, but rather relies on information that is generally available at the time of its determination. See H.R. Rep. 100-576, at 590 (1988), reprinted in 1988 U.S.C.C.A.N. 1547, 1623-24. We have reason to believe or suspect that prices of inputs from Indonesia, South Korea, and Thailand may have been subsidized. Through other proceedings, the Department has learned that these countries maintain broadly available, non-industry-specific export subsidies and, therefore, finds it reasonable to infer that all exports to all markets from these countries may be subsidized. See Brake Rotors. Accordingly, we have disregarded prices from Indonesia, South Korea and Thailand in calculating the Indian import-based SVs because we have reason to believe or suspect such prices may be subsidized.

Factor Valuations

In accordance with section 773(c) of the Act, we calculated NV based on FOPs reported by respondents for the POR. To calculate NV, we multiplied the reported per unit factor consumption quantities by publicly available Indian SVs (except as noted below). In selecting the SVs, we considered the quality, specificity, and contemporaneity of the data. As appropriate, we adjusted input prices by including freight costs to make them delivered prices. Specifically, we added to Indian import SVs a surrogate freight cost using the shorter of the reported distance from the domestic supplier to the factory or the distance from the nearest seaport to the factory where appropriate (i.e., where the sales terms for the market-economy inputs were not delivered to the factory). This adjustment is in accordance with the decision of the Federal Circuit in Sigma Corp. v. United States, 117 F.3d 1401, 1407-08 (Fed. Cir. 1997). Due to the extensive number of SVs it was necessary to assign in this administrative review, we present a discussion of the main factors. For a detailed description of all SVs used to value the respondent's reported FOPs, see Factor Valuation Memorandum.

During the POR, Taifa purchased all or a portion of certain inputs from a market economy supplier and paid for the inputs in a market economy currency. The Department has instituted a rebuttable presumption that market economy input prices are the best available information for valuing an input when the total volume of the input purchased from all market economy sources during the period of investigation or review exceeds 33 percent of the total volume of the input purchased from all sources during the period. In these cases, unless case-specific facts provide adequate grounds to rebut the Department's presumption, the Department will use the weighted-average market economy purchase price to value the input. Alternatively, when the volume of an NME firm's purchases of an input from market economy suppliers during the period is below 33 percent of its total volume of purchases of the input during the period, but where these purchases are otherwise valid and there is no reason to disregard the prices, the Department will weight-average the weighted-average market economy purchase price with an appropriate SV according to their respective shares of the total volume of purchases, unless case-specific facts provide adequate grounds to rebut the presumption. When a firm has made market economy input purchases that may have been dumped or subsidized, are not bona fide, or are otherwise not acceptable for use in a dumping calculation, the Department will exclude them from the numerator of the ratio to ensure a fair determination of whether valid market economy purchases meet the 33-percent threshold. See Antidumping Methodologies: Market Economy Inputs, Expected Non-Market Economy Wages, Duty Drawback; and Request for Comments, 71 FR 61716, 61717-18 (October 19, 2006). Accordingly, we valued Taifa's inputs using the market economy prices paid for the inputs where the total volume of the input purchased from all market economy sources during the POR exceeded 33 percent of the total volume of the input purchased from all sources during that period. Alternatively, when the volume of Taifa's purchases of an input from market economy suppliers during the POR was below 33 percent of the company's total volume of purchases of the input during the POR, we weight-averaged the weighted-average market economy purchase price with an appropriate surrogate value according to their respective shares of the total volume of purchases, as appropriate. Where appropriate, we increased the market economy prices of inputs by freight and brokerage and handling expenses. See Taifa's Factor Value Memorandum. For a detailed description of all actual values used for market-economy inputs, see the Analysis Memo Taifa. Where the quantity of the input purchased from market-economy suppliers is insignificant, the Department will not rely on the price paid by an NME producer to a market-economy supplier because it cannot have confidence that a company could fulfill all its needs at that price.

We used contemporaneous import data from the World Trade Atlas online (“Indian Import Statistics”), published by the Directorate General of Commercial Intelligence and Statistics, Ministry of Commerce of India, to calculate SVs for the reported FOPs purchased from NME sources. Where data appeared to be aberrational within selected HTS values, we removed the aberrational data from the calculation of these selected HTS values. Among the FOPs for which we calculated SVs using Indian Import Statistics are brightening agents, carbon dioxide, cast aluminum, dye, epoxy resin, hot-rolled steel plate, nitric acid, phosphoric acid, steel rod, zinc ingots, and zinc powder. For a complete listing of all the inputs and the valuation for each mandatory respondent see the Factor Valuation Memorandum.

Where we could not obtain publicly available information contemporaneous with the POR with which to value FOPs, we adjusted the SVs using, where appropriate, the Indian Wholesale Price Index (“WP”) as published in the International Financial Statistics of the International Monetary Fund. See Factor Valuation Memorandum; see also Tapered Roller Bearings and Parts Thereof, Finished and Unfinished, from the People's Republic of China: Final Results of 2003-2004 Administrative Review and Partial Rescission of Review, 71 FR 2517, 2522 (January 17, 2006).

For direct labor, indirect labor, and packing labor, consistent with 19 CFR 351.408(c)(3), we used the PRC regression-based wage rate as reported on Import Administration's website, Import Library, Expected Wages of Selected NME Countries, revised in January 2007, http://ia.ita.doc.gov/wages/04wages/04wages-010907.html. The source of these wage-rate data is the Yearbook of Labour Statistics 2006, ILO (Geneva: 2006), Chapter 5B: Wages in Manufacturing. The years of the reported wage rates range from 2004 and 2005. Because this regression-based wage rate does not separate the labor rates into different skill levels or types of labor, we have applied the same wage rate to all skill levels and types of labor reported by the respondent. See Factor Valuation Memorandum.

To value electricity, we used data from the International Energy Agency (“IEA”) Key World Energy Statistics (2003 edition). Because the value for electricity was not contemporaneous with the POR, we adjusted it for inflation. See Factor Valuation Memorandum.

To calculate the value for domestic brokerage and handling, the Department used information available to it contained in the public version of two questionnaire responses placed on the record of separate proceedings. The first source was December 2003-November 2004 data contained in the public version of Essar Steel's February 28, 2005, questionnaire submitted in the antidumping duty administrative review of hot-rolled carbon steel flat products from India. See Certain Hot-Rolled Carbon Steel Flat Products from India: Notice of Preliminary Results of Antidumping Duty Administrative Review, 71 FR 2018 (January 12, 2006)(unchanged in final results). This value was averaged with the February 2004-January 2005 data contained in the public version of Agro Dutch Industries Limited's (“Agro Dutch”) May 24, 2005, questionnaire response submitted in the administrative review of the antidumping duty order on certain preserved mushrooms from India. See Certain Preserved Mushrooms From India: Final Results of Antidumping Duty Administrative Review, 70 FR 37757 (June 30, 2005) (Agro Dutch's May 24, 2005, submission). The brokerage expense data reported by Essar Steel and Agro Dutch in their public versions are ranged data. The Department derived an average per-unit amount from each source and then adjusted each average rate for inflation using the WPI. The Department then averaged the two per-unit amounts to derive an overall average rate for the POR. See Factor Valuation Memorandum.

To value international freight, the Department obtained generally publicly available price quotes from Maersk Sealand at http://www.maersksealand.com/HomePage/appmanager/, a market-economy provider of international freight services. See Factor Valuation Memorandum.

The Department valued steam coal using the 2003/2004 Tata Energy Research Institute's Energy Data Directory & Yearbook (“TERI Data”). The Department was able to determine, through its examination of the 2003/2004 TERI Data, that: a) the annual TERI Data publication is complete and comprehensive because it covers all sales of all types of coal made by Coal India Limited and its subsidiaries, and b) the annual TERI Data publication prices are exclusive of duties and taxes. Because the value was not contemporaneous with the POR, the Department adjusted the rate for inflation. See Factor Valuation Memorandum.

We used Indian transport information in order to value the freight-in cost of the raw materials. The Department determined the best available information for valuing truck and rail freight to be from www.infreight.com. This source provides daily rates from six major points of origin to five destinations in India during the POR. The Department obtained a price quote on the first day of each month of the POR from each point of origin to each destination and averaged the data accordingly. See Factor Valuation Memorandum.

To value factory overhead, selling, general, and administrative expenses (“SG&A”), and profit, we used the audited financial statements for the fiscal year ending March 31, 2005, from the following producer: Rexello Castors Pvt. Ltd., which is an Indian producer of comparable merchandise. From this information, we were able to determine factory overhead as a percentage of the total raw materials, labor and energy (“ML&E”) costs; SG&A as a percentage of ML&E plus overhead (i.e., cost of manufacture); and the profit rate as a percentage of the cost of manufacture plus SG&A. For further discussion, see Factor Valuation Memorandum.

We valued diesel oil using data obtained from the IEA Key World Energy Statistics 2007, for the first quarter of 2007. Because these data were after the POR, we applied a WPI deflator to make them contemporaneous with the POR. See Factor Valuation Memorandum.

Finally, Taifa reported that it generated certain other by-products as a result of the production of hand trucks. We valued aluminum and steel scrap using Indian import statistics as published by the WTA, contemporaneous with the POR. We valued aluminum scrap and recycled paint powder using Indian import statistics as published by the WTA, contemporaneous with the POR.

Preliminary Results of Review

We preliminarily determine that the following margins exist during the period December 1, 2005, through November 30, 2006:

Hand Trucks and Parts Thereof from the PRC
Exporter | Weighted-Average Margin (Percent)
Qingdao Taifa Group Co. Ltd. | 3.82
PRC-Wide Rate² | 383.60
² We note that because both Future Tool and Shandong Machinery are part of the PRC-wide entity, they are subject to the PRC-wide rate.

Disclosure

The Department will disclose calculations performed for these preliminary results to the parties within five days of the date of publication of this notice in accordance with 19 CFR 351.224(b). Any interested party may request a hearing within 30 days of publication of these preliminary results. See 19 CFR 351.310(c). Any hearing, if requested, will generally be held two days after the scheduled date for submission of rebuttal briefs. See 19 CFR 351.310(d). Interested parties may submit case briefs and/or written comments no later than 30 days after the date of publication of these preliminary results of review. See 19 CFR 351.309(c)(ii). Rebuttal briefs and rebuttals to written comments, limited to issues raised in such briefs or comments, may be filed no later than five days after the time limit for filing the case briefs. See 19 CFR 351.309(d). Further, we request that parties submitting written comments provide the Department with an additional copy of those comments on diskette. The Department will issue the final results of this administrative review, which will include the results of its analysis of issues raised in any comments, and at a hearing, within 120 days of publication of these preliminary results, pursuant to section 751(a)(3)(A) of the Act.

Assessment Rates

The Department shall determine, and CBP shall assess, antidumping duties on all appropriate entries. The Department intends to issue assessment instructions to CBP 15 days after the date of publication of the final results of review. Pursuant to 19 CFR 351.212(b)(1), we will calculate importer- or customer-specific ad valorem duty assessment rates based on the ratio of the total amount of the dumping margins calculated for the examined sales to the total entered value of those same sales. To determine whether the duty assessment rates are de minimis (i.e., less than 0.50 percent), in accordance with the requirement set forth in 19 CFR 351.106(c)(2), we will calculate customer-specific ad valorem ratios based on export prices.

We will instruct CBP to assess antidumping duties on all appropriate entries covered by this review if any importer- or customer-specific assessment rate calculated in the final results of this review is above de minimis.

For entries of the subject merchandise during the POR from companies not subject to this review, we will instruct CBP to liquidate them at the cash deposit rate in effect at the time of entry. The final results of this review shall be the basis for the assessment of antidumping duties on entries of merchandise covered by the final results of this review and for future deposits of estimated duties, where applicable.

Cash Deposit Requirements

The following cash deposit requirements will be effective upon publication of the final results of this administrative review for shipments of the subject merchandise from the PRC entered, or withdrawn from warehouse, for consumption on or after the publication date, as provided by sections 751(a)(2)(C) of the Act: (1) for Taifa, which has a separate rate, the cash deposit rate will be that established in the final results of this review (except, if the rate is zero or de minimis, zero cash deposit will be required); (2) for previously investigated or reviewed PRC and non-PRC exporters not listed above that received a separate rate in a prior segment of this proceeding (which were not reviewed in this segment of the proceeding), the cash deposit rate will continue to be the exporter-specific rate; (3) for all PRC exporters of subject merchandise that have not been found to be entitled to a separate rate, the cash deposit rate will be the PRC-wide rate of 383.60 percent; and (4) for all non-PRC exporters of subject merchandise which have not received their own rate, the cash deposit rate will be the rate applicable to the PRC exporter that supplied that non-PRC exporter. These deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are in accordance with sections 751(a)(1) and 777(i) of the Act and 19 CFR 351.213.

Dated: December 31, 2007.
Susan H. Kuhbach,
Acting Assistant Secretary for Import Administration.

[FR Doc. E8-456 Filed 1-11-08; 8:45 am]

BILLING CODE 3510-DS-S